INTERNATIONAL TRADE COMMISSION

Notice of Appointment of Individuals To Serve as Members of Performance Review Board

AGENCY: United States International Trade Commission.

ACTION: Appointment of Individuals to Serve as Members of Performance Review Board.

DATES: Effective Date: June 23, 2010.

FOR FURTHER INFORMATION CONTACT: Cynthia Roscoe, Director of Human Resources, U.S. International Trade Commission (202) 205-2651.

SUPPLEMENTARY INFORMATION: The Chairman of the U.S. International Trade Commission has appointed the following individuals to serve on the Commission's Performance Review Board (PRB):

Chair of the PRB: Commissioner Daniel R. Pearson.

Vice-Chair of the PRB: Commissioner Dean A. Pinkert.

Member—David Beck.

Member—Catherine DeFilippo.

Member—Robert B. Koopman.

Member—Karen Laney.

Member—Lynn I. Levine.

Member—James M. Lyons.

Member—Stephen A. McLaughlin.

Member—Lyn M. Schlitt.

This notice is published in the Federal Register pursuant to the requirement of 5 U.S.C. 4314(c)(4). Hearing-impaired individuals are advised that information on this matter can be obtained by contacting our TDD terminal on (202) 205-1810.

By order of the Chairman.
Issued: June 29, 2010.
Marilyn R. Abbott,
Secretary to the Commission.

[FR Doc. 2010-16120 Filed 7-1-10; 8:45 am]

BILLING CODE 7020-02-P